DEPARTMENT OF LABOR

Employment and Training Administration

[TA-W-60,148]

Monadnock Specialty Coatings, LLC, Also Known as Monadnock Specialty Coatings, Binghamton, NY; Notice of Termination of Investigation

Pursuant to Section 221 of the Trade Act of 1974, as amended, an investigation was initiated on September 27, 2006 in response to a worker petition filed by a company official on behalf of workers of Monadnock Specialty Coatings, LLC, also known as Monadnock Specialty Coatings, Binghamton, New York.

The petitioner has requested that the petition be withdrawn. Consequently, the investigation has been terminated.

Signed at Washington, DC, this 13th day of October 2006.
Linda G. Poole,
Certifying Officer, Division of Trade Adjustment Assistance.

[FR Doc. E6-17863 Filed 10-24-06; 8:45 am]

BILLING CODE 4510-30-P